DEPARTMENT OF HEALTH AND HUMAN SERVICES

Administration for Children and Families

[OMB No.: 0970-0177]

Proposed Information Collection Activity; Child Support Annual Data Report and Instructions (OCSE-157)

AGENCY: Office of Child Support Enforcement, Administration for Children and Families, HHS.

ACTION: Request for public comment.

SUMMARY: The Office of Child Support Enforcement (OCSE), Administration for Children and Families (ACF), is requesting approval for a 3-year extension of the Child Support Annual Data Report and Instructions (OCSE-157) with revisions. The current Office of Management and Budget (OMB) approval expires on March 31, 2022.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. All requests should be identified by the title of the information collection.

SUPPLEMENTARY INFORMATION: Description: Each year, states are required to provide OCSE with child support information pertaining to case inventory, performance status, and accomplishments in the following areas: paternity establishment, services requested and provided, medical support, collections due and distributed, staff, program expenditures, non-cooperation and good cause, and administrative enforcement. The information collected from the Child Support Annual Data Report (OCSE-157) enables OCSE to (1) report child support enforcement activities to Congress as required by law, (2) calculate states' incentive measures for performance and assess performance indicators utilized in the program, and (3) assist OCSE in monitoring and evaluating state child support programs.

Respondents: State and Local Child Support Agencies.

Annual Burden Estimates
Collection instrument | Total number of annual respondents | Number of annual responses per respondent | Average annual burden hour per response | Total annual burden hours
OCSE-157 Report and Instructions | 54 | 1 | 7 | 378

Estimated Total Annual Burden Hours: 378.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(a) and (g), and 669.

Mary B. Jones,
ACF/OPRE Certifying Officer.

[FR Doc. 2021-22457 Filed 10-14-21; 8:45 am]

BILLING CODE 4184-41-P